DEPARTMENT OF AGRICULTURE

Animal and Plant Health Inspection Service

[Docket No. 03-110-2]

Saltcedar; Availability of an Environmental Assessment and Finding of No Significant Impact

AGENCY: Animal and Plant Health Inspection Service, USDA.

ACTION: Notice.

SUMMARY: We are advising the public that the Animal and Plant Health Inspection Service has prepared an environmental assessment relative to the control of saltcedar (Tamarix spp.). The environmental assessment considers the effects of, and alternatives to, the release of a nonindigenous leaf beetle, Diorhabda elongata, into the environment to reduce the severity of saltcedar infestations. The environmental assessment provides a basis for our conclusion that the release into the environment of the biological control agent will not present a risk of introducing plant pests into the United States or disseminating plant pests within the United States and will not have a significant impact on the quality of the human environment. Based on its findings of no significant impact, the Animal and Plant Health Inspection Service has determined that an environmental impact statement need not be prepared.

ADDRESSES: Copies of the environmental assessment and finding of no significant impact are available for public inspection in our reading room. The reading room is located in room 1141 of the USDA South Building, 14th Street and Independence Avenue, SW., Washington, DC. Normal reading room hours are 8 a.m. to 4:30 p.m., Monday through Friday, except holidays. To be sure someone is there to help you, please call (202) 690-2817 before coming.

You may view APHIS documents published in the Federal Register and related information on the Internet at http://www.aphis.usda.gov/ppd/rad/webrepor.html.

FOR FURTHER INFORMATION CONTACT: Dr. William Kauffman, Western Region Program Manager, PPQ, APHIS, 2150 Centre Avenue Building B, Fort Collins, CO 80526-8117; (970) 494-7565.

SUPPLEMENTARY INFORMATION:

Background

On December 19, 2003, we published in the Federal Register (68 FR 70755-70756, Docket No. 03-110-1) a notice advising the public that a draft environmental assessment had been prepared by the Animal and Plant Health Inspection Service (APHIS) relative to the release of a nonindigenous leaf beetle, Diorhabda elongata, into the environment to reduce the severity of saltcedar (Tamarix spp.) infestations, a major weed pest of watercourses and riparian habitats.

We solicited comments on the draft environmental assessment for 30 days, ending January 20, 2004. We received 37 comments by that date. The comments were from researchers, State plant organizations, individuals, and industry groups. Of the comments received, 13 were supportive and 1 was a request for an extension of the comment period. The remaining 23 commenters raised issues concerning water usage, endangered and protected species considerations, additional saltcedar eradication options, and projected results. We have taken the issues raised by the 23 commenters into consideration in formulating our final environmental assessment.

The environmental assessment and finding of no significant impact may be viewed on the Internet at http://www.aphis.usda.gov/ppd/es/sltcedr.html. You may request paper copies of the environmental assessment and finding of no significant impact by calling or writing to the person listed under FOR FURTHER INFORMATION CONTACT. Please refer to the title of the environmental assessment and finding of no significant impact when requesting copies. The environmental assessment and finding of no significant impact are also available for review in our reading room (information on the location and hours of the reading room is listed under the heading ADDRESSES at the beginning of this notice).

The environmental assessment and finding of no significant impact have been prepared in accordance with: (1) The National Environmental Policy Act (NEPA) of 1969, (2) as amended (43 U.S.C. 4321 et seq.), regulations of the Council on Environmental Quality for implementing the procedural provisions of NEPA (40 CFR parts 1500-1508), (3) USDA regulations implementing NEPA (7 CFR part 1b), and (4) APHIS' NEPA Implementing Procedures (7 CFR part 372).

Done in Washington, DC, this 28th day of July 2005 .
Elizabeth E. Gaston,
Acting Administrator, Animal and Plant Health Inspection Service.

[FR Doc. 05-15287 Filed 8-2-05; 8:45 am]

BILLING CODE 3410-34-P